CORPORATION FOR NATIONAL AND COMMUNITY SERVICE

Sunshine Act Meetings

The Board of Directors of the Corporation for National and Community Service (operating as AmeriCorps) gives notice of the following meeting:

TIME AND DATE: Friday, May 13, 2022, 12:00 p.m.-2:00 p.m. (ET).

PLACE: Virtual, by Zoom and telephone.

• To register for the meeting, please use this link: https://americorps.zoomgov.com/webinar/register/WN_hGYcFXb-TuqS8Kyfxbqfcg.

• To participate by phone, call (833) 568-8864 (Toll Free).

STATUS: Open to the public.

MATTERS TO BE CONSIDERED:

I. Election of a Chair

II. Board Member Introductory Remarks

III. Discussion on AmeriCorps 2022-2026 Strategic Plan and Strategic Learning and Evidence Plan

IV. CEO Report

V. Spotlight and Panel on American Rescue Plan Implementation

VI. Public Comment

VII. Chair's Closing Remarks and Adjournment

Members of the public who would like to comment on the business of the Board may do so in writing or virtually. Submit written comments to board@cns.gov with the subject line: “Comments for May 13, 2022 AmeriCorps Board Meeting” no later than 5:00 p.m. (ET) May 9, 2022. Individuals who would like to comment during the meeting will be given instructions for signing up when they join the meeting. Comments are requested to be limited to two minutes.

AmeriCorps provides reasonable accommodation to individuals with disabilities, where needed.

CONTACT PERSON FOR MORE INFORMATION: Henry Hicks, by telephone: (202) 606-6864 or by email: hhicks@cns.gov.

Dated: May 4, 2022.
Fernando Laguarda,
General Counsel.

[FR Doc. 2022-09904 Filed 5-4-22; 4:15 pm]

BILLING CODE 6050-28-P